FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Web site (http://www.fmc.gov) or contacting the Office of Agreements at (202) 523-5793 or tradeanalysis@fmc.gov.

Agreement No.: 010977-060.

Title: Hispaniola Discussion Agreement.

Parties: Crowley Liner Services; Seaboard Marine Ltd.; and Tropical Shipping and Construction Co. Ltd.

Filing Party: Wayne R. Rohde, Esq.; Sher & Blackwell; 1850 M Street, NW.; Suite 900; Washington, DC 20036.

Synopsis: The amendment adds authority for the parties to collect, exchange, and discuss certain trade data.

Agreement No.: 010979-047.

Title: Caribbean Shipowners Association.

Parties: Bernuth Lines, Ltd.; CMA CGM, S.A.; Crowley Caribbean Services, LLC/Crowley Liner Services, Inc.; Seaboard Marine, Ltd.; Seafreight Line, Ltd.; Tropical Shipping and Construction Co., Ltd.; Sea Star Line Caribbean, LLC; and Zim Integrated Shipping Services, Ltd.

Filing Party: Wayne R. Rohde, Esq.; Sher and Blackwell; 1850 M Street, NW., Suite 900; Washington, DC 20036.

Synopsis: The amendment would add Crowley Caribbean Services, LLC, acting as a single party in conjunction with Crowley Liner Services, Inc.

Agreement No.: 010982-045.

Title: Florida-Bahamas Shipowners and Operators Association.

Parties: Atlantic Caribbean Line, Inc.; Bernuth Lines, Ltd.; Crowley Caribbean Services LLC/Crowley Liner Services, Inc.; Seaboard Marine, Ltd.; Seafreight Line, Ltd.; and Tropical Shipping and Construction Co., Ltd.

Filing Party: Wayne R. Rohde, Esq.; Sher & Blackwell LLP; 1850 M Street, NW.; Suite 900; Washington, DC 20036.

Synopsis: The amendment would add Crowley Caribbean Services, LLC, acting as a single party in conjunction with Crowley Liner Services, Inc.

Agreement No.: 011953-007.

Title: Florida Shipowners Group Agreement.

Parties: The member lines of the Caribbean Shipowners Association and the Florida-Bahamas Shipowners and Operators Association.

Filing Party: Wayne R. Rohde, Esq.; Sher & Blackwell, LLP; 1850 M Street, NW.; Suite 900; Washington, DC 20036.

Synopsis: The amendment would add Crowley Caribbean Services, LLC, acting as a single party in conjunction with Crowley Liner Services, Inc.

Agreement No.: 011961-004.

Title: The Maritime Credit Agreement.

Parties: Alianca Navegacao e Logistica Ltda. & Cia; A.P. Moller-Maersk A/S; China Shipping Container Lines Co., Ltd.; CMA CGM, S.A.; Companhia Libra de Navegacao; Compania Libra de Navegacion Uruguay S.A.; Compania Sudamericana de Vapores, S.A.; COSCO Container Lines Company Limited; Dole Ocean Cargo Express; Hamburg-Süd; Hoegh Autoliners A/S; Independent Container Line Ltd.; Kawasaki Kisen Kaisha, Ltd.; Norasia Container Lines Limited; Safmarine Container Lines N.V.; Tropical Shipping & Construction Co., Ltd.; United Arab Shipping Company (S.A.G.); Wallenius Wilhelmsen Logistics AS; and Zim Integrated Shipping Services, Ltd.

Filing Party: Wayne R. Rohde, Esq.; Sher & Blackwell LLP; 1850 M Street, NW.; Suite 900; Washington, DC 20036.

Synopsis: The amendment deletes Atlantic Container AB as a party to the agreement.

Agreement No.: 012054.

Title: EUKOR/NYK Venezuela Space Charter Agreement.

Parties: EUKOR Car Carriers, Inc. and Nippon Yusen Kaisha.

Filing Party: Michael B. Holt, Esq.; Vice President & General Counsel; NYK Line (North America), Inc.; 300 Lighting Way 5th Floor; Secaucus, NJ 07094.

Synopsis: The agreement authorizes EUKOR to charter space to NYK in the trade between Baltimore, MD and Venezuela.

Agreement No.: 201198.

Title: Marine Terminal Operators of Hampton Roads Discussion Agreement.

Parties: APM Terminals Virginia, Inc. and Virginia International Terminals, Inc.

Filing Party: Wayne R. Rohde, Esq.; Sher and Blackwell; 1850 M Street, NW.; Suite 900; Washington, DC 20036.

Synopsis: The agreement would authorize the parties to discuss and agree on marine terminal rates, charges, and conditions of service, and engage in other cooperative working arrangements.

By order of the Federal Maritime Commission.
Dated: October 24, 2008.
Karen V. Gregory,
Secretary.

[FR Doc. E8-25818 Filed 10-28-08; 8:45 am]

BILLING CODE 6730-01-P